DEPARTMENT OF DEFENSE

Office of the Secretary

32 CFR Part 112

[DoD-2007-OS-0025]

32 CFR Part 112

Indebtedness of Military Personnel

AGENCY: Department of Defense.

ACTION: Administrative correction; proposed rule.

SUMMARY: The Department of Defense is administratively amending the proposed rule published at 72 FR 19136, April 17, 2007 to remove a reference that had erroneously been included. The reference in question has been canceled. All other information remains unchanged.

FOR FURTHER INFORMATION CONTACT: Lieutenant Colonel Mark Gingras, Office of the Deputy Under Secretary of Defense for Program Integration, 4000 Defense Pentagon, Washington, DC 20301-4000.

SUPPLEMENTARY INFORMATION: The reference, DoD Instruction 7230.7, was canceled by SD 106, dated November 6, 1997 and has been removed from the DoD Directives System.

List of Subjects in 32 CFR Part 112

Claims, Credit, Military personnel.

Accordingly, the proposed rule, 32 CFR part 112 is administratively corrected as follows:

PART 112—INDEBTEDNESS OF MILITARY PERSONNEL

1. The authority citation for 32 CFR part 112 continues to read as follows: 5 U.S.C. 5520a(k) and 10 U.S.C. 113(d).

§ 112.4 [Corrected]

2. Section 112.4(b) is administratively amended by removing the words “, as provided under DoD Instruction 7230.7²” in the last sentence and by removing the footnote.

3. Renumber the remaining footnotes in the Proposed Rule accordingly.

Dated: April 23, 2007.
C.R. Choate,
Alternate OSD Federal Register Liaison Officer, Department of Defense.

[FR Doc. E7-8064 Filed 4-26-07; 8:45 am]

BILLING CODE 5001-06-P